DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as Governing Board or Board) standing committee meetings and quarterly Board meeting. This notice provides information about the meetings to members of the public who may be interested in attending the meetings and/or providing written comments related to the work of the Governing Board. Notice of the meetings is required under the Federal Advisory Committee Act. The meetings will be held either in person and/or virtually, as noted below. Members of the public must register in advance to attend the virtual meetings. A registration link will be posted on www.nagb.gov five business days prior to each meeting.

DATES: The Quarterly Board Meeting will be held on the following dates:

• November 16, 2023, from 8:30 a.m. to 6 p.m., EDT

• November 17, 2023, from 7:30 a.m. to 2:30 p.m., EDT

ADDRESSES: Westin Arlington Gateway, 801 North Glebe Rd., Arlington, VA 22203.

FOR FURTHER INFORMATION CONTACT: Munira Mwalimu, Executive Officer/Designated Federal Official (DFO) for the Governing Board, 800 North Capitol Street NW, Suite 825, Washington, DC 20002, telephone: (202) 357-6906, fax: (202) 357-6945, email: Munira.Mwalimu@ed.gov.

SUPPLEMENTARY INFORMATION:

Statutory Authority and Function: The Governing Board is established under the National Assessment of Educational Progress Authorization Act, (20 U.S.C. 9621). Information on the Governing Board and its work can be found at www.nagb.gov.

The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

Standing Committee Meetings

The Governing Board's standing committees will meet to conduct regularly scheduled work. Standing committee meeting agendas and meeting materials will be posted on the Governing Board's website, www.nagb.gov, no later than five business days prior to the meetings. For the virtual standing committee meetings, a registration link will be posted on www.nagb.gov five business days prior to the meetings. Registration is required to join the meetings virtually. Minutes of prior standing committee meetings are available at https://www.nagb.gov/governing-board/quarterly-board-meetings.html.

Standing Committee Meetings

Tuesday, October 31, 2023

Executive Committee (Virtual)

2 p.m.-4 p.m. (EDT) Closed Session

The Executive Committee will meet in closed session on Tuesday, October 31, 2023, from 2 p.m. to 4 p.m. to receive a briefing on the NAEP Assessment Schedule and Budget. The briefing and Governing Board discussions may impact current and future NAEP contracts and budgets and must be kept confidential to maintain the integrity of the federal acquisition process. Public disclosure of this confidential information would significantly impede implementation of the NAEP assessment program if conducted in open session. Such matters are protected by exemption 9(B) of section 552b(c) of title 5 of the United States Code.

Thursday, November 16, 2023

Assessment Development Committee (In-Person Meeting)

4 p.m.-4:15 p.m. (EDT), Open Session

4:15 p.m.-6 p.m. (EDT), Closed Session

The Assessment Development Committee will meet in open session on Thursday, November 16, 2023, from 4 p.m. to 4:15 p.m., to discuss the action on the 2028 Science Assessment Framework. From 4:15 p.m. to 4:35 p.m. the committee will meet in closed session to receive an update on potential members of the Social Studies Content Advisory Group. These discussions pertain solely to personnel rules and practices of an agency and information of a personal nature where disclosure would constitute a clearly unwarranted invasion of personal privacy. As such, the discussions are protected by exemptions 2 and 6 of the Government Sunshine Act, 5 U.S.C. 552b(c). From 4:35 p.m. to 6 p.m. the committee will meet in closed session to review the 2028 NAEP Reading concept passages and sketches. These items have not been released to the public. Public disclosure of this confidential information would significantly impede implementation of the NAEP assessment program if conducted in open session. Such matters are protected by exemption 9(B) of the Government Sunshine Act, 5 U.S.C. 552b(c).

Committee on Standards, Design and Methodology (In-Person Meeting)

4 p.m.-4:55 p.m. (EDT), Open Session

4:55 p.m.-6 p.m. (EDT), Closed Session

The Committee on Standards, Design and Methodology will meet in open session on Thursday, November 16, 2023, from 4 p.m. to 4:55 p.m. to discuss the automated scoring contest and shadow scoring for NAEP Mathematics. From 4:55 p.m. to 6 p.m., the committee will meet in closed session to discuss NAEP modernization plans to move towards a device agnostic administration. The session will be closed because it will include presentations of item displays across device-types including operational test items that have not been released to the public. Public disclosure of this confidential information would significantly impede implementation of the NAEP assessment program if conducted in open session. Such matters are protected by exemption 9(B) of section 552b(c) of title 5 of the United States Code.

Reporting and Dissemination Committee (In-Person Meeting)

4 p.m. to 6 p.m. (EDT) Open Session

The Reporting and Dissemination Committee will meet in open session on Thursday, November 16, 2023, from 4 p.m. to 6 p.m. The committee will open with remarks by the new committee leadership, followed by a discussion of the new strategic communications plan which will cover the next 16 months of work, and effective ways of interpreting NAEP scores.

Friday, November 17, 2023

Nominations Committee (In-Person Meeting)

7:30 a.m.-8:45 a.m. (EDT) Closed Session

The Nominations Committee will meet in closed session on Friday, November 17, 2023, from 7:30 a.m. to 8:45 a.m., to review applications for Board vacancies for the 2024-2025 term and discuss the rating process and member assignments for the ratings. These discussions pertain solely to internal personnel rules and practices of an agency and information of a personal nature where disclosure would constitute a clearly unwarranted invasion of personal privacy. As such, the discussions are protected by exemptions 2 and 6 of the Government Sunshine Act, 5 U.S.C. 552b(c).

Quarterly Governing Board Meeting

The plenary sessions of the Governing Board's November 2023 quarterly meeting will be held on the following dates and times:

Thursday, November 16, 2023

Open Meeting: 8:30 a.m.-2:45 p.m. (Hybrid Meeting)

Closed Meeting: 2:45 p.m.-3:45 p.m. (Hybrid Meeting)

On Thursday, November 16, 2023, the plenary session of the Governing Board meeting will convene in open session. From 8:30 a.m. to 8:35 a.m. Beverly Perdue, Chair of the Governing Board, will welcome members, followed by a motion to approve the November 16-17, 2023, quarterly Governing Board meeting agenda and minutes from the August 3-4, 2023, Governing Board meeting. From 8:35 a.m. to 9:45 a.m., new and reappointed members will take the oath of office, followed by remarks. From 9:45 a.m. to 10:15 a.m., Lesley Muldoon, Executive Director of the Governing Board, will provide updates on the Board's work, followed by an update from NCES Commissioner, Peggy Carr from 10:15 a.m.-10:45 a.m.

From 10:45 a.m. to 12:15 p.m., the Board will receive updates from and discuss priorities for the NAEP Assessment Schedule with the Council of Chief State School Officers (CCSSO) State Policy Task Force and the Trial Urban District Assessment (TUDA) Task Force. The Board will discuss and take action on the NAEP Assessment Schedule from 12:15-2:30 p.m.

Following a fifteen-minute break, the Board will convene in a closed session from 2:45 p.m. to 3:45 p.m. to receive a briefing on the NAEP Budget and planned contract actions. This session must be closed to maintain the integrity of the federal budgeting and acquisition processes. Public disclosure of this confidential information would significantly impede implementation of the NAEP assessment program if conducted in open session. Such matters are protected by exemption 9(B) of the Government Sunshine Act, 5 U.S.C. 552b(c).

Following a transitional break, the Board will meet in standing committees from 4 p.m. to 6 p.m. A schedule of the standing committee meetings is listed above. The November 16, 2023, session of the Governing Board meeting will adjourn at 6 p.m.

Friday, November 17, 2023

Open Meeting: 9:00 a.m.-2:30 p.m. (Hybrid Meeting)

On Friday, November 17, 2023, the Board will convene in open session from 9:00 a.m. to 9:45 a.m. to discuss and take action on the 2028 NAEP Science Assessment Framework. From 9:45 a.m. to 10:30 a.m., the Board will engage in open discussion. The Board will continue discussions and take action on the NAEP Assessment Schedule from 10:30 a.m. to 1 p.m. followed by a fifteen-minute break from 1 p.m.-1:15 p.m. From 1:15 p.m. to 2:30 p.m., the Board will receive an update on Artificial Intelligence and NAEP. The November 17, 2023, session of the Governing Board meeting will adjourn at 2:30 p.m.

Instructions for Accessing and Attending the Meetings

Registration: Members of the public may attend the November 16 and November 17, 2023, meetings of the full Governing Board either in person or virtually. A link to the final meeting agenda and information on how to register for virtual attendance for the open sessions will be posted on the Governing Board's website at www.nagb.gov no later than five business days prior to the meeting. Registration is required to join the meeting virtually.

Public Comment: Written comments related to the work of the Governing Board and its standing committees may be submitted to the attention of the Executive Officer/DFO no later than 10 business days prior to the meeting. Written comments may be submitted either via email to Munira.Mwalimu@ed.gov or in hard copy to the address listed above. Written comments should reference the relevant agenda item.

Access to Records of the Meeting: Pursuant to 5 U.S.C. 1009, the public may inspect the meeting materials at www.nagb.gov, which will be posted no later than five business days prior to each meeting. The public may also inspect the meeting materials and other Governing Board records at 800 North Capitol Street NW, Suite 825, Washington, DC 20002, by emailing Munira.Mwalimu@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice no later than ten working days prior to each meeting date.

Electronic Access to This Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U.S. Department of Education.

[FR Doc. 2023-23987 Filed 10-30-23; 8:45 am]

BILLING CODE 4000-01-P